FEDERAL COMMUNICATIONS COMMISSION

47 CFR Part 1

[MD Docket No. 12-201; FCC 12-77]

Procedures for Assessment and Collection of Regulatory Fees; Assessment and Collection of Regulatory Fees for Fiscal Year 2008

AGENCY: Federal Communications Commission.

ACTION: Notice of proposed rulemaking; extension of reply comment date.

SUMMARY: In this document, the Federal Communications Commission (Commission), via the Office of Managing Director, seeks comment on a report released by the Government Accountability Office Report on September 12, 2012, entitled, Federal Communications Commission, Regulatory Fee Process Needs To Be Updated. In addition, this document extends the reply comment date in response to the Commission's Notice of Proposed Rulemaking seeking comment on proposals to reform the Commission's policies and procedures for assessing and collecting regulatory fees.

DATES: The comment period is reopened and the reply comment period is extended for the proposed rule published August 17, 2012, at 7 FR 49749. Interested parties may submit comments in response to the GAO Regulatory Fees Reform Report on or before October 9, 2012, and reply comments in response to both the GAO Regulatory Fees Reform Report and Regulatory Fees Reform Notice of Proposed Rulemaking on or before October 23, 2012.

ADDRESSES: You may submit comments, identified by MD Docket No. 12-201, by any of the following methods:

• Federal eRulemaking Portal: http://www.regulations.gov. Follow the instructions for submitting comments.

• Federal Communications Commission's Web Site: http://www.fcc.gov/cgb/ecfs. Follow the instructions for submitting comments.

• People with Disabilities: Contact the FCC to request reasonable accommodations (accessible format documents, sign language interpreters, CART, etc.) by email: FCC504@fcc.gov or phone: 202-418-0530 or TTY: 202-418-0432.

• Email: ecfs@fcc.gov. Include MD Docket No. 12-201 in the subject line of the message.

• Mail: Commercial overnight mail (other than U.S. Postal Service Express Mail, and Priority Mail, must be sent to 9300 East Hampton Drive, Capitol Heights, MD 20743. U.S. Postal Service first-class, Express, and Priority mail should be addressed to 445 12th Street SW., Washington DC 20554.

For detailed instructions for submitting comments and additional information on the rulemaking process, see the SUPPLEMENTARY INFORMATION section of this document.

FOR FURTHER INFORMATION CONTACT: Roland Helvajian, Office of Managing Director at (202) 418-0444.

SUPPLEMENTARY INFORMATION: On July 17, 2012, the Federal Communications Commission (Commission) released a Notice of Proposed Rulemaking (NPRM), FCC 12-77, seeking comment on proposals to reform the Commission's policies and procedures for assessing and collecting regulatory fees. The Commission published this Regulatory Fees Reform NPRM in the Federal Register, establishing a comment deadline of September 17, 2012 and reply comment deadline of October 16, 2012. On September 10, 2012, the Government Accountability Office (GAO) released a report entitled, Federal Communications Commission, Regulatory Fee Process Needs To Be Updated.

In this Public Notice, the Office of Managing Director (OMD) seeks comment on the GAO Regulatory Fees Report and extends the deadline for filing reply comments in response to the Regulatory Fees Reform NPRM until October 23, 2012. This extension aligns the reply comment deadlines in response to both items so that interested parties have the opportunity to concurrently examine and comment on the intertwined issues in these items. Accordingly, comments for the GAO Regulatory Fees Report will be due October 9, 2012 and reply comments in response to both the GAO Regulatory Fees Report and Regulatory Fees Reform NPRM are due October 23, 2012. Finally, OMD has entered the GAO Regulatory Fees Report into the record of the Regulatory Fees Reform proceeding so that comments on both documents may be filed in MD Docket 12-201.

The full text of this document is available for inspection and copying during normal business hours in the FCC Reference Center, 445 12th Street SW., Room CY-A257, Portals II, Washington, DC 20554, and may also be purchased from the Commission's copy contractor, BCPI, Inc., Portals II, 445 12th Street SW., Room CY-B402, Washington, DC 20554. Customers may contact BCPI, Inc. via their Web site, http://www.bcpi.com, or call 1-800-378-3160. This document is available in alternative formats (computer diskette, large print, audio record, and braille). Persons with disabilities who need documents in these formats may contact the FCC by email: FCC504@fcc.gov or phone: 202-418-0530 or TTY: 202-418-0432.

Comment Filing Procedures

Comments and Replies. Pursuant to §§ 1.415 and 1.419 of the Commission's rules, 47 CFR 1.415, 1.419, interested parties may file comments and reply comments on or before the dates indicated on the first page of this document. Comments may be filed using: (1) The Commission's Electronic Comment Filing System (ECFS), (2) the Federal Government's eRulemaking Portal, or (3) by filing paper copies. See Electronic Filing of Documents in Rulemaking Proceedings, 63 FR 24121 (1998).

• Electronic Filers: Comments may be filed electronically using the Internet by accessing the ECFS: http://fjallfoss.fcc.gov/ecfs2/ or the Federal eRulemaking Portal: http://www.regulations.gov.

• Paper Filers: Parties who choose to file by paper must file an original and four copies of each filing. If more than one docket or rulemaking number appears in the caption of this proceeding, filers must submit two additional copies for each additional docket or rulemaking number.

Filings can be sent by hand or messenger delivery, by commercial overnight courier, or by first-class or overnight U.S. Postal Service mail. All filings must be addressed to the Commission's Secretary, Office of the Secretary, Federal Communications Commission.

All hand-delivered or messenger-delivered paper filings for the Commission's Secretary must be delivered to FCC Headquarters at 445 12th St. SW., Room TW-A325, Washington, DC 20554. The filing hours are 8 a.m. to 7 p.m. All hand deliveries must be held together with rubber bands or fasteners. Any envelopes must be disposed of before entering the building.

Commercial overnight mail (other than U.S. Postal Service Express Mail and Priority Mail) must be sent to 9300 East Hampton Drive, Capitol Heights, MD 20743.

U.S. Postal Service first-class, Express, and Priority mail must be addressed to 445 12th Street SW., Washington, DC 20554.

People with Disabilities: To request materials in accessible formats for people with disabilities (braille, large print, electronic files, audio format), send an email to fcc504@fcc.gov or call the Consumer & Governmental Affairs Bureau at 202-418-0530 (voice), 202-418-0432 (tty).

Availability of Documents. Comments, reply comments, and ex parte submissions will be available for public inspection during regular business hours in the FCC Reference Center, Federal Communications Commission, 445 12th Street SW., CY-A257, Washington, DC 20554. These documents will also be available free online, via ECFS. Documents will be available electronically in ASCII, Word, and/or Adobe Acrobat.

Accessibility Information. To request information in accessible formats (computer diskettes, large print, audio recording, and Braille), send an email to fcc504@fcc.gov or call the Commission's Consumer and Governmental Affairs Bureau at (202) 418-0530 (voice), (202) 418-0432 (TTY). This document can also be downloaded in Word and Portable Document Format (“PDF”) at: http://www.fcc.gov.

Federal Communications Commission.
Marlene H. Dortch,
Secretary.

[FR Doc. 2012-24514 Filed 10-3-12; 8:45 am]

BILLING CODE 6712-01-P